DEPARTMENT OF AGRICULTURE

Submission for OMB Review; Comment Request

May 18, 2006.

The Department of Agriculture has submitted the following information collection requirement(s) to OMB for review and clearance under the Paperwork Reduction Act of 1995, Public Law 104-13. Comments regarding (a) Whether the collection of information is necessary for the proper performance of the functions of the agency, including whether the information will have practical utility; (b) the accuracy of the agency's estimate of burden including the validity of the methodology and assumptions used; (c) ways to enhance the quality, utility and clarity of the information to be collected; (d) ways to minimize the burden of the collection of information on those who are to respond, including through the use of appropriate automated, electronic, mechanical, or other technological collection techniques or other forms of information technology should be addressed to: Desk Officer for Agriculture, Office of Information and Regulatory Affairs, Office of Management and Budget (OMB), OIRA_Submission@OMB.EOP.GOV or fax (202) 395-5806 and to Departmental Clearance Office, USDA, OCIO, Mail Stop 7602, Washington, DC 20250-7602. Comments regarding these information collections are best assured of having their full effect if received within 30 days of this notification. Copies of the submission(s) may be obtained by calling (202) 720-8681.

An agency may not conduct or sponsor a collection of information unless the collection of information displays a currently valid OMB control number and the agency informs potential persons who are to respond to the collection of information that such persons are not required to respond to the collection of information unless it displays a currently valid OMB control number.

Rural Business-Cooperative Service

Title: Rural Economic Development Loan and Grant Program.

OMB Control Number: 0570-0012.

Summary of Collection: Section 313 of the Rural Electrification Act of 1936 (7 U.S.C. 940 (c) established a loan and grant program. The program provides zero interest loans and grants to electric and telecommunications utilities that have repaid or prepaid an insured, direct or guaranteed loan or any not-for-profit utility that is eligible to receive an insured or direct loan under the Rural Electrification Act (RUS Borrowers/Intermediary) for the purpose of promoting rural economic development and job creation projects. The loans and grants under this program may be provided to approximately 1,700 electric and telecommunications utilities across the country that has borrowed funds from RUS. Under this program, the RUS borrowers/Intermediary may receive the loan funds and pass them on to businesses or other organizations.

Need and Use of the Information: Rural Business-Cooperative Service (RBS) will collect information to evaluate applications for funding consideration, conduct an environmental review, prepare legal documents, receive loan payments, oversee the operation of a revolving loan fund, monitor the use of RBS funds, enforce other government requirements such as compliance with civil rights regulations. If the information were not collected, RBS would be unable to select the projects that will receive loan or grant funds.

Description of Respondents: Business or other for-profit; Not-for-profit institutions.

Number of Respondents: 120.

Frequency of Responses: Recordkeeping; Reporting: On occasion; Annually.

Total Burden Hours: 5,376.

Ruth Brown,
Departmental Information Collection Clearance Officer.

[FR Doc. E6-7870 Filed 5-23-06; 8:45 am]

BILLING CODE 3410-XT-P